NUCLEAR REGULATORY COMMISSION

[NRC-2021-0147]

Evaluations of Explosions Postulated To Occur at Nearby Facilities and on Transportation Routes Near Nuclear Power Plants

AGENCY: Nuclear Regulatory Commission.

ACTION: Regulatory guide; issuance.

SUMMARY: The U.S. Nuclear Regulatory Commission (NRC) is issuing Revision 3 to Regulatory Guide (RG)1.91, “Evaluations of Explosions Postulated to Occur at Nearby Facilities and on Transportation Routes Near Nuclear Power Plants.” The revision of RG 1.91 describes methods that the NRC finds acceptable for applicants and licensees of nuclear power reactors to use in evaluating postulated accidental explosions at nearby facilities and transportation routes.

DATES: Revision 3 of RG 1.91 is available on November 26, 2021.

ADDRESSES: Please refer to Docket ID NRC-2021-0147 when contacting the NRC about the availability of information regarding this document. You may obtain publicly available information related to this document using any of the following methods:

• Federal Rulemaking Website: Go to https://www.regulations.gov and search for Docket ID NRC-2021-0147. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. Revision 3 of RG 1.91 and the regulatory analysis may be found in ADAMS under Accession Nos. ML21260A242 and ML21105A438, respectively.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

Regulatory guides are not copyrighted, and NRC approval is not required to reproduce them.

FOR FURTHER INFORMATION CONTACT: Michael Eudy, Office of Nuclear Regulatory Research, telephone: 301-415-3104, email: Michael.Eudy@nrc.gov, Ronaldo Jenkins, Office of Nuclear Regulatory Research, telephone: 301-415-6978, email: Ronaldo.Jenkins@nrc.gov, and Kenneth See, Office of Nuclear Reactor Regulation, telephone: 301-415-1508, email: Kenneth.See@nrc.gov. They are all staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

II. Additional Information

Revision 3 of RG 1.91 was issued with a temporary identification of Draft Regulatory Guide (DG)-1388. The NRC published a notice of the availability of DG-1388 in the Federal Register on August 2, 2021, (86 FR 41525) for a 30-day public comment period. The public comment period closed on September 1, 2021. Public comments on DG-1388 and the staff responses to the public comments are available in ADAMS under Accession No. ML21260A167.

III. Congressional Review Act

This RG is a rule as defined in the Congressional Review Act (5 U.S.C. 801-808). However, the Office of Management and Budget has not found it to be a major rule as defined in the Congressional Review Act.

IV. Backfitting, Forward Fitting and Issue Finality

Revision 3 of RG 1.91 does not constitute backfitting as defined in section 50.109 of title 10 of the Code of Federal Regulations, “Backfitting,” and as described in NRC Management Directive (MD) 8.4, “Management of Backfitting, Forward Fitting, Issue Finality, and Information Requests;” does not constitute forward fitting as that term is defined and described in MD 8.4; and does not affect the issue finality of any approval issued under 10 CFR part 52. As explained in Revision 3 of RG 1.91, applicants and licensees would not be required to comply with the positions set forth in the RG.

For the Nuclear Regulatory Commission.
Dated: November 22, 2021.
Edward F. O'Donnell,
Acting Chief, Regulatory Guide and Programs Management Branch, Division of Engineering, Office of Nuclear Regulatory Research.

[FR Doc. 2021-25836 Filed 11-24-21; 8:45 am]

BILLING CODE 7590-01-P